DEPARTMENT OF DEFENSE

Department of the Navy

[Docket ID: USN-2024-HQ-0010]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by November 18, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: CATCH Program; OMB Control Number 0703-0069.

Type of Request: Revision.

Number of Respondents: 1,765.

Responses per Respondent: 1.

Annual Responses: 1,765.

Average Burden per Response: 20 minutes.

Annual Burden Hours: 588.

Needs and Uses: Section 543 of Public Law 113-291, the National Defense Authorization Act (NDAA) for Fiscal Year 2015, requires that an individual who files a restricted report on an incident of sexual assault may elect to inform a Military Criminal Investigative Organization (MCIO) on a confidential basis and without affecting the restrictive nature of the report. The MCIOs use this information by querying it against existing records in the CATCH database and against law enforcement investigations involving sexual assault to identify potential serial sexual assault offenders in both restricted and unrestricted reports of sexual assault. Previously, this information was not available to the MCIOs in cases of restricted reporting. A separate database is required to prevent compromise of the victim's confidentiality which is likely to occur if the information is entered into MCIO law enforcement case management databases.

Respondents to this information collection are victims in restricted and certain unrestricted reports of sexual assault made to the Department of Defense through the Sexual Assault Prevention and Response (SAPR) Program. Upon making a report of sexual assault to a Sexual Assault Response Coordinator (SARC), each potential respondent is given the option to make a voluntary submission to this database. The respondents who elect to participate can do so by providing information electronically through the CATCH website or through a printed CATCH submission form. Instructions and unique login credentials or the printed form are provided by the SARC handling their case.

For electronic submissions, respondents are directed to the CATCH Program website (https://profile.ncis.navy.mil) by the SARC. Every active duty and adult military dependent sexual assault victim making a report of sexual assault through the SAPR program is assigned a SARC who coordinates services for the victim throughout the process. All SARC personnel receive training on this program and are required to brief all eligible victims reporting sexual assault on the option of using the CATCH database to report information to the MCIO. Each SARC will maintain the form and instructions to provide the information electronically as part of the required information to provide to all of their clients. The respondent may complete the CATCH submission form, at their convenience, and mail it directly to the Naval Criminal Investigative Service (NCIS) Headquarters (HQ) in Quantico, VA. The form contains a mailing address to submit the paper collection instrument upon completion. Alternatively, and more commonly, the respondents may submit information electronically at the CATCH website. The respondents access the system through the use of unique login credentials provided by the SARC.

The information provided by the respondents is entered into a secure database maintained by the NCIS HQ in Quantico, VA. If information is provided by the printed form, an NCIS HQ criminal investigator will enter the information into the database manually upon receipt. If information is provided electronically, the respondent will submit the entry directly into the database. MCIO HQ personnel then review the suspect and incident details within the respondents' entries and query those details against the CATCH system to compare with other CATCH entries. The details are also queried against MCIO case management systems and other law enforcement systems to determine if the information can be attributed to any suspects in an open or closed law enforcement investigation. If the information submitted by the respondent is matched with other reports in the CATCH database or law enforcement records indicating the possibility of a serial offender, the MCIO investigator will contact the Service SAPR program representative and inform them of the findings.

Service SAPR personnel will then contact the respondent to ascertain the respondent's willingness to make the report unrestricted (if restricted) and/or report the sexual assault incident to the MCIO for the purpose of participating in a law enforcement investigation. If the respondent agrees, a full investigation will be initiated. In a full investigation, the respondent conducts an interview with an MCIO criminal investigator, wherein the respondent describes the allegation and provides additional information needed by the MCIO to conduct an investigation. This full investigation may include, but is not limited to, an interview of the suspect(s), interview of additional witnesses, examination and documentation of the crime scene, reviews of personnel files, medical records, and other pertinent records, criminal history checks, and forensic laboratory analysis. The respondent may also be asked to provide sworn testimony in judicial or administrative proceedings. If the respondent declines to unrestrict their report and/or participate in a law enforcement investigation, no further action will be taken with the information collected within the CATCH database. The successful end result of this information collection is the identification of serial sexual assault offenders that otherwise would have gone undetected if the information had remained restricted from MCIO access.

Affected Public: Individuals or households.

Frequency: On occasion.

Respondent's Obligation: Voluntary.

OMB Desk Officer: Ms. Jasmeet Seehra.

DOD Clearance Officer: Mr. Reginald Lucas.

Dated: October 15, 2024.
Aaron T. Siegel,
Alternate OSD Federal Register Liaison Officer, Department of Defense.

[FR Doc. 2024-24144 Filed 10-17-24; 8:45 am]

BILLING CODE 6001-FR-P